SOCIAL SECURITY ADMINISTRATION

Privacy Act of 1974; as Amended; New System of Records and New Routine Use Disclosures

AGENCY: Social Security Administration (SSA).

ACTION: Proposed New System of Records and Proposed Routine Uses.

SUMMARY: In accordance with the Privacy Act (5 U.S.C. 552a(e)(4) and (e)(11)), we are issuing public notice of our intent to establish a new system of records entitled Identity Protection Program (IPP) System, 60-0360, and routine uses applicable to this system of records. Hereinafter, we will refer to the proposed system of records as the IPP System. The proposed system of records will consist of information used to provide enhanced protection for employees who reasonably believe that they may be at risk of injury or other harm by the disclosure of their work location and telephone number information, supporting documentation, and the dispositions of the requests for program participation. We invite public comments on this proposal.

DATES: We filed a report of the proposed new system of records and proposed routine use disclosures with the Chairman of the Senate Committee on Homeland Security and Governmental Affairs, the Chairman of the House Committee on Government Reform, and the Director, Office of Information and Regulatory Affairs, Office of Management and Budget (OMB) on March 17, 2008. The proposed system of records and routine uses will become effective on April 26, 2008, unless we receive comments warranting it not to become effective.

ADDRESSES: Interested individuals may comment on this publication by writing to the Executive Director, Office of Public Disclosure, Office of the General Counsel, Social Security Administration, 3-A-6 Operations Building, 6401 Security Boulevard, Baltimore, Maryland 21235-6401. All comments received will be available for public inspection at the above address.

FOR FURTHER INFORMATION CONTACT: Ms. Edie McCracken, Social Insurance Specialist, Office of Public Disclosure, Office of the General Counsel, Social Security Administration, 3-A-6 Operations Building, 6401 Security Boulevard, Baltimore, Maryland 21235, telephone at (410) 965-6117, e-mail address at edie.mccracken@ssa.gov.

SUPPLEMENTARY INFORMATION:

I. Background and Purpose of the Proposed New System of Records Entitled the IPP System

A. General Background

We approved a recommendation from a national committee on security to implement a nationwide program to enhance the safety and security of our employees who are victims, or potential victims, of domestic violence. It was intended to safeguard the anonymity of at-risk employees when requests for their work location and/or phone number were received from individuals posing a threat to their personal safety, by delaying the disclosure of the information when certain conditions were met. This process would have entailed a change in our policy that permitted such information requests to be honored. While no action was ever taken on the recommendation, we amended our rules to reflect a similar approach that strengthened our privacy and disclosure rules to better safeguard employees who reasonably believe that they may be at risk of injury or other harm by the disclosure of their work location and telephone number.

B. Collection and Maintenance of the Data for the Proposed New System of Records Entitled the IPP System

SSA will collect and maintain information that will be housed in the IPP System from employees who have requested program participation in the IPP from SSA officials. The information maintained in this system of records will be maintained in paper and electronic formats and will include information on all IPP requests made by employees. This system contains such information as: (1) The employee's name, personal identification number (PIN), supporting documentation collected during the process, number of requests made, whether those requests have been granted or denied; (2) the employee's locator information and telephone number; (3) the number of requests by Agency component that have been approved, and the number denied; (4) the reasons for denial; and (5) amount of time to process each request. We will retrieve information from the proposed system of records by using the employee's name and/or PIN. Thus, the IPP System constitutes a system of records under the Privacy Act.

II. Proposed Routine Use Disclosures of Data Maintained in the Proposed IPP System

A. Proposed Routine Use Disclosures

We are proposing to establish routine uses of information that will be maintained in the proposed IPP System as discussed below.

1. To the Office of the President for the purpose of responding to an individual pursuant to an inquiry received from that individual or from a third party on his or her behalf.

We will disclose information under this routine use only in situations in which an individual may contact the Office of the President, seeking that Office's assistance in a matter relating to information contained in this system of records. We will disclose information when the Office of the President makes an inquiry and indicates that it is acting on behalf of the individual whose record is requested.

2. To a congressional office in response to an inquiry from that office made at the request of the subject of a record.

We will disclose information under this routine use only in situations in which an individual may ask his or her congressional representative to intercede in a matter relating to information contained in this system of records. We will disclose information when the congressional representative makes an inquiry and indicates that he or she is acting on behalf of the individual whose record is requested.

3. To the Department of Justice (DOJ), a court or other tribunal, or another party before such tribunal when:

(a) SSA, or any component thereof; or

(b) any SSA employee in his/her official capacity; or

(c) any SSA employee in his/her individual capacity where DOJ (or SSA where it is authorized to do so) has agreed to represent the employee; or

(d) the United States or any agency thereof where SSA determines that the litigation is likely to affect the operations of SSA or any of its components, is a party to the litigation or has an interest in such litigation, and SSA determines that the use of such records by DOJ, a court or other tribunal, or another party before such tribunal is relevant and necessary to the litigation, provided, however, that in each case, SSA determines that such disclosure is compatible with the purpose for which the records were collected.

We will disclose information under this routine use only as necessary to enable DOJ to effectively defend SSA, its components or employees in litigation involving the proposed new system of records and ensure that courts and other tribunals have appropriate information.

4. To the Equal Employment Opportunity Commission (EEOC or Commission) when requested in connection with investigations into alleged or possible discriminatory practices in the Federal sector, examination of Federal affirmative employment programs, compliance by Federal agencies with the Uniform Guidelines on Employee Selection Procedures, or other functions vested in the Commission.

We will disclose information to the EEOC, as necessary, to assist in reassessing individuals' requests for program participation, to assist in investigations into alleged or possible discriminatory practices in the Federal sector, to combat and prevent fraud, waste and abuse under the Rehabilitation Act of 1973, and for other functions vested in the Commission.

5. To the Federal Labor Relations Authority, the General Counsel, the Federal Mediation and Conciliation Service, the Federal Service Impasses Panel, or an arbitrator when information is requested in connection with investigations of allegations of unfair labor practices, matters before an arbitrator or the Federal Impasses Panel.

We will disclose information about employees under this routine use, as necessary, to the Federal Labor Relations Authority, the General Counsel, the Federal Mediation and Conciliation Service, and the Federal Service Impasses Panel, or an arbitrator in which all or part of the allegations involve the Agency's providing program participation for at-risk employees.

6. To the Office of Personnel Management, Merit Systems Protection Board, or the Office of the Special Counsel, in connection with appeals, special studies of the civil service and other merit systems, review of those agencies' rules and regulations, investigation of alleged or possible prohibited personnel practices, and other such functions promulgated in 5 U.S.C. chapter 12, or as may be authorized by law.

We will disclose information under this routine use, as necessary, to the Office of Personnel Management, Merit Systems Protection Board or the Office of the Special Counsel in which all or part of the allegations in the appeal or action involve the Agency's providing program participation for at-risk employees or disapproving such participation.

7. To contractors and other Federal agencies, as necessary, for the purpose of assisting SSA in the efficient administration of its programs. We will disclose information under this routine use only in situations in which SSA may enter into a contractual or similar agreement with a third party to assist in accomplishing an Agency function relating to this system of records.

We will disclose information under this routine use only in situations in which SSA may enter into a contractual agreement or similar agreement with a third party to assist in accomplishing an Agency function relating to this system of records.

8. To student volunteers, individuals working under a personal services contract, and other individuals performing functions for SSA, who technically do not have the status of Agency employees, when they are performing work for SSA, as authorized by law, and they need access to the records in order to perform their assigned Agency functions.

Under certain Federal statutes, SSA is authorized to use the service of volunteers and participants in certain educational, training, employment and community service programs. Examples of such statutes and programs include: 5 U.S.C. 3111 regarding student volunteers and 42 U.S.C. 2753 regarding the College Work-Study Program. We contemplate disclosing information under this routine use only when SSA uses the services of these individuals and they need access to information in this system to perform their assigned Agency duties.

9. To the General Services Administration (GSA) and the National Archives and Records Administration (NARA) under 44 U.S.C. 2904 and 2906, as amended by the NARA Act of 1984, non-tax return information which is not restricted from disclosure by Federal law for use by those agencies in conducting records management studies.

The Administrator of GSA and the Archivist of NARA are charged by 44 U.S.C. 2904, as amended, with promulgating standards, procedures and guidelines regarding record management and conducting records management studies. 44 U.S.C. 2906, as amended, provides that GSA and NARA are to have access to Federal agencies' records and that agencies are to cooperate with GSA and NARA. In carrying out these responsibilities, it may be necessary for GSA and NARA to have access to this system of records. In such instances, the routine use will facilitate disclosure.

10. To Federal, State, and local law enforcement agencies and private security contractors, as appropriate, information necessary:

• To enable them to protect the safety of SSA employees and the security of the SSA workplace, and the operation of SSA facilities, or

• To assist investigations or prosecutions with respect to activities that affect such safety and security or activities that disrupt the operation of SSA facilities.

We will disclose information under this routine use to law enforcement agencies and private security contractors when information is needed to investigate, prevent, or respond to activities that jeopardize the security and safety of SSA employees or workplaces, or that otherwise disrupt the operation of SSA facilities. Information would also be disclosed to assist in the prosecution of persons charged with violating Federal or local law in connection with such activities.

11. To appropriate Federal, State, and local agencies, entities, and persons when (1) we suspect or confirm that the security or confidentiality of information in this system of records has been compromised; (2) we determine that as a result of the suspected or confirmed compromise there is a risk of harm to economic or property interests, identity theft or fraud, or harm to the security or integrity of this system or other systems or programs of SSA that rely upon the compromised information; and (3) we determine that disclosing the information to such agencies, entities, and persons is necessary to assist in our efforts to respond to the suspected or confirmed compromise and prevent, minimize, or remedy such harm. SSA will use this routine use to respond only to those incidents involving an unintentional release of its records.

This routine use specifically permits the disclosure of SSA information in connection with response and remediation efforts in the event of an unintentional release of Agency information, otherwise known as a “data security breach.” This routine use serves to protect the interests of the people whose information is at risk by allowing us to take appropriate steps to facilitate a timely and effective response to a data security breach. It will also help us to improve our ability to prevent, minimize, or remedy any harm that may result from a compromise of data maintained in these systems of records.

B. Compatibility of Proposed Routine Uses

The Privacy Act (5 U.S.C. 552a(b)(3)) and our disclosure regulations (20 CFR part 401) permit us to disclose information under a published routine use for a purpose that is compatible with the purpose for which we collected the information. Section 401.150(c) of SSA Regulations permits us to disclose information under a routine use where necessary to carry out SSA programs. SSA Regulations at section 401.120 provide that we will disclose information when a law specifically requires the disclosure. The proposed routine uses numbered 1 through 9, 11 and 12 above will ensure efficient administration of the IPP System; the disclosure that would be made under routine use number 10 is required by Federal law. Thus, all routine uses are appropriate and meet the relevant statutory and regulatory criteria.

III. Records Storage Medium and Safeguards for the Proposed New System Entitled the IPP System

SSA will maintain information in the IPP System in electronic and paper form. Only authorized SSA and contractor personnel who have a need for the information in the performance of their official duties will be permitted access to the information. We will safeguard the security of the information by requiring the use of access codes to enter the computer system that will maintain the data and will store computerized records in secured areas that are accessible only to employees who require the information to perform their official duties. Any paper maintained records will be kept in locked cabinets or in otherwise secure areas. Furthermore, SSA employees having access to SSA databases maintaining personal information must sign a sanction document annually, acknowledging their accountability for making unauthorized access to or disclosure of such information.

Contractor personnel having access to data in the proposed system of records will be required to adhere to SSA rules concerning safeguards, access and use of the data.

SSA and contractor personnel having access to the data in this system will be informed of the criminal penalties of the Privacy Act for unauthorized access to or disclosure of information maintained in this system. See 5 U.S.C. 552a(i)(1).

IV. Effect of the Proposed New System of Records entitled the IPP System

The proposed new system of records will maintain only that information which is necessary to safeguard the anonymity of employees requesting participation in the IPP so that these individuals can perform the functions of their employment positions without fear for their physical safety or other harm. Security measures will be employed that protect access to and preclude unauthorized disclosure of records in this system of records. Additionally, SSA will adhere to all applicable provisions of the Privacy Act, Social Security Act and other Federal statutes that govern our use and disclosure of the information. Thus, we do not anticipate that the proposed system of records will have an unwarranted effect on the privacy of the individuals that will be covered by the IPP System.

Dated: March 17, 2008.
Michael J. Astrue,
Commissioner.

SYSTEM NUMBER: 60-0360

System name:

Identity Protection Program (IPP) System.

System classification:

None.

System location:

Social Security Administration, Office of Human Resources, 6401 Security Boulevard, Baltimore, Maryland 21235.

Categories of individuals covered by the system:

SSA Employees who have requested participation in the IPP.

Categories of records in the system:

This system consists of a variety of records concerning participation in the IPP. In addition to the employee's name, this system includes information such as the employee's personal identification number (PIN), locator information, telephone number, component, documentation submitted to support the reason for the request for program participation, as well as any subsequent documentation provided by the employee; employee's written request to be removed from the IPP; the number of IPP requests that have been granted or denied by employee; the number of IPP requests that have been granted or denied by Agency component; reason for program participation request denial; and length of time taken to process each request for program participation.

Authority for maintenance of the system:

Sections 205 and 702(a)(5) of the Social Security Act (42 U.S.C. 405, 902(a)(5)).

Purpose(s):

Information in the IPP System is used to:

• Provide a means of collecting information about SSA employees who reasonably believe that they may be at risk of injury or other harm by the disclosure of their work location and telephone number.

• Provide a standard approach to ensuring the safety of SSA employees who reasonably believe that they may be at risk of injury or other harm by the disclosure of their work location and telephone number.

The information in this system will be used to establish participation in the IPP. We will establish program participation when an employee has made known his/her request for program participation and all of the required documentation has been submitted.

Routine uses of records maintained in the system, including categories of users and the purpose of such uses:

Disclosures may be made for routine uses as indicated below.

(1) To the Office of the President for the purpose of responding to an individual pursuant to an inquiry received from that individual or from a third party on his or her behalf.

(2) To a congressional office in response to an inquiry from that office made at the request of the subject of a record.

(3) To the Department of Justice (DOJ), a court or other tribunal, or another party before such tribunal when:

(a) SSA, or any component thereof; or

(b) Any SSA employee in his/her official capacity; or

(c) Any SSA employee in his/her individual capacity where DOJ (or SSA where it is authorized to do so) has agreed to represent the employee; or

(d) The United States or any agency thereof where SSA determines that the litigation is likely to affect the operations of SSA or any of its components, is a party to the litigation or has an interest in such litigation, and SSA determines that the use of such records by DOJ, a court or other tribunal, or another party before such tribunal is relevant and necessary to the litigation, provided, however, that in each case, SSA determines that such disclosure is compatible with the purpose for which the records were collected.

(4) To the Equal Employment Opportunity Commission (EEOC or Commission) when requested in connection with investigations into alleged or possible discriminatory practices in the Federal sector, examination of Federal affirmative employment programs, compliance by Federal agencies with the Uniform Guidelines on Employee Selection Procedures, or other functions vested in the Commission.

(5) To the Federal Labor Relations Authority, the General Counsel, the Federal Mediation and Conciliation Service, the Federal Service Impasses Panel, or an arbitrator when information is requested in connection with the investigations of allegations of unfair labor practices, matters before an arbitrator or the Federal Impasses Panel.

(6) To the Office of Personnel Management, Merit Systems Protection Board, or the Office of the Special Counsel, in connection with appeals, special studies of the civil service and other merit systems, review of those agencies' rules and regulations, investigation of alleged or possible prohibited personnel practices, and other such functions promulgated in 5 U.S.C. Chapter 12, or as may be authorized by law.

(7) To contractors and other Federal agencies, as necessary, for the purpose of assisting SSA in the efficient administration of its programs. We contemplate disclosing information under this routine use only in situations in which SSA may enter into a contractual or similar agreement with a third party to assist in accomplishing an Agency function relating to this system of records.

(8) To student volunteers, individuals who work under a personal services contract, and other individuals performing functions for SSA, who technically do not have the status of Agency employees, when they are performing work for SSA, as authorized by law, and they need access to the records in order to perform their assigned Agency functions.

(9) To the General Services Administration (GSA) and National Archives and Records Administration (NARA) under 44 U.S.C. § 2904 and § 2906, as amended by the NARA Act of 1984, non-tax return information which is not restricted from disclosure by Federal law for use by those agencies in conducting records management studies.

(10) To Federal, State, and local law enforcement agencies and private security contractors, as appropriate, information necessary:

• To enable them to protect the safety of SSA employees and customers, the security of the SSA workplace, the operation of SSA facilities, or

• To assist investigations or prosecutions with respect to activities that affect such safety and security or activities that disrupts the operation of SSA facilities.

(11) To appropriate Federal, State, and local agencies, entities, and persons when (1) we suspect or confirm that the security or confidentiality of information in this system of records has been compromised; (2) we determine that as a result of the suspected or confirmed compromise there is a risk of harm to economic or property interests, identity theft or fraud, or harm to the security or integrity of this system or other systems or programs of SSA that rely upon the compromised information; and (3) we determine that disclosing the information to such agencies, entities, and persons is necessary to assist in our efforts to respond to the suspected or confirmed compromise and prevent, minimize, or remedy such harm. SSA will use this routine use to respond only to those incidents involving an unintentional release of its records.

Policies and practices for storing, retrieving, accessing, retaining and disposing of records in the system:

Storage:

Records in this system are maintained and stored in both electronic and paper form.

Retrievability:

Records in this system will be retrieved by the employee's PIN and/or name.

Safeguards:

Security measures include the use of access codes to enter the computer system which will maintain the data, the storage of computerized records in secured areas that are accessible only to employees who require the information in performing their official duties. Manually maintained records will be kept in locked cabinets or in otherwise secure areas. SSA employees who have access to the data will be informed of the criminal penalties of the Privacy Act for unauthorized access to or disclosure of information maintained in the system. See 5 U.S.C. 552a(i)(1).

Contractor personnel and/or alternate employees having access to data in the system of records will be required to adhere to SSA rules concerning safeguards, access and use of the data.

Retention and disposal:

The records are maintained in SSA headquarters Office of Human Resources or regional Servicing Personnel Offices. They are disposed of in accordance with item 17a of the National Archives and Records Administration General Records Schedule 1.

System manager(s):

Associate Commissioner, Office of Personnel, Social Security Administration, 6401 Security Boulevard, Baltimore, Maryland 21235-6401.

Notification procedure(s):

An individual can determine if this system contains a record about him/her by writing to the system manager at the above address and providing his/her name, SSN or other information that may be in the system of records that will identify him/her. An individual requesting notification of records in person should provide the same information, as well as provide an identity document, preferably with a photograph, such as a driver's license. If an individual does not have any identification documents sufficient to establish his/her identity, the individual must certify in writing that he/she is the person claimed to be and that he/she understands that knowing and willful request for, or acquisition of, a record pertaining to another individual under false pretenses is a criminal offense.

If notification is requested by telephone, an individual must verify his/her identity by providing identifying information that parallels the record to which notification is being requested. Individuals providing insufficient identifying information by telephone will be required to submit a request in writing or in person. If an individual is requesting information by telephone on behalf of another individual, the subject individual must be connected with SSA and the requesting individual in the same phone call. SSA will establish the subject individual's identity (his/her name, PIN, address, date of birth and place of birth along with one other piece of information such as mother's maiden name) and ask for his/her consent in providing information to the requesting individual.

If a request for notification is submitted by mail, an individual must include a notarized statement to SSA to verify his/her identity or must certify in the request that he/she is the person claimed to be and that he/she understands that knowing and willful request for, or acquisition of, a record pertaining to another individual under false pretenses is a criminal offense. These procedures are in accordance with SSA Regulations (20 CFR 401.45).

Record access procedure(s):

Same as Notification procedure(s). Requesters also should reasonably specify the record contents they are seeking. These procedures are in accordance with SSA Regulations (20 CFR 401.40).

Contesting record procedure(s):

Same as Notification procedure(s). Requesters should also reasonably identify the record, specify the information they are contesting, and state the corrective action sought and the reasons for the correction, with supporting justification, showing how the record is untimely, incomplete, inaccurate, or irrelevant. These procedures are in accordance with SSA Regulations (20 CFR 401.65).

Record source categories:

Information in this system is obtained from information collected from SSA employees and officials.

Systems exempt from certain provisions of the Privacy Act:

None.

[FR Doc. E8-6066 Filed 3-24-08; 8:45 am]

BILLING CODE 4191-02-P